DEPARTMENT OF HEALTH AND HUMAN SERVICES

National Institutes of Health

Center for Scientific Review; Amended Notice of Meeting

Notice is hereby given of a change in the meeting of the Center for Scientific Review Special Emphasis Panel, March 22, 2006, 3 p.m. to March 22, 2006, 5 p.m., National Institutes of Health, 6701 Rockledge Drive, Bethesda, MD 20892 which was published in the Federal Register on February 23, 2006, 71 FR 9362-9363.

The starting time of the meeting on March 22, 2006 has been changed to 2 p.m. until adjournment. The meeting date and location remain the same. The meeting is closed to the public.

Dated: March 1, 2006.
Anna Snouffer,
Acting Director, Office of Federal Advisory Committee Policy.

[FR Doc. 06-2213 Filed 3-8-06; 8:45 am]

BILLING CODE 4140-01-M